FEDERAL COMMUNICATIONS COMMISSION

Information Collection Being Reviewed by the Federal Communications Commission

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 21, 2012. If you anticipate that you will be submitting PRA comments, but find it difficult to do so within the period of time allowed by this notice, you should advise the FCC contact listed below as soon as possible.

ADDRESSES: Submit your PRA comments to Judith B. Herman, Federal Communications Commission, via the Internet at Judith-B.Herman@fcc.gov. To submit your PRA comments by email send them to: PRA@fcc.gov.

FOR FURTHER INFORMATION CONTACT: Judith B. Herman, Office of Managing Director, (202) 418-0214.

SUPPLEMENTARY INFORMATION:

OMB Control Number: 3060-XXXX.

Title: Application for Mobility Fund Phase I Support.

Form Number: FCC Form 680.

Type of Review: New collection.

Respondents: Business or other for-profit entities; Not-for-profit institutions; State, Local or Tribal Governments.

Number of Respondents and Responses: 250 respondents; 250 responses.

Estimated Time per Response: 1.5 hours.

Frequency of Response: On occasion reporting requirement.

Obligation To Respond: Required to obtain or retain benefits.

Total Annual Burden: 375 hours.

Annual Cost Burden: None.

Privacy Act Impact Assessment: No impact. Entities submitting an application are acting in an entrepreneurial capacity.

Nature and Extent of Confidentiality: There is no need for confidentiality. The information to be collected will be made available for public inspection. Applicants may request materials or information submitted to the Commission be given confidential treatment under 47 CFR 0.459 of the Commission's rules.

Needs and Uses: The Commission will use the information collected from winning bidders in the Mobility Fund Phase I auction to evaluate applications for Mobility Fund Phase 1 support. On November 18, 2011, the Federal Communications Commission released, WC Docket Nos. 10-90, 07-135, 05-337, 03-109; GN Docket No. 09-51; CC Docket Nos. 01-92, 96-45; WT Docket No. 10-208; FCC 11-161, which adopted rules to govern the Connect America Fund Mobility Fund. In adopting the rules, the Commission provided for one-time support to immediately accelerate deployment of networks for mobile broadband services in unreserved areas. Mobility Fund Phase I support will be awarded through a nationwide reverse auction. Applicants with winning bids will provide this information to obtain the Mobility Fund Phase 1 support.

OMB Control Number: 3060-XXXX.

Title: Application to Participate in an Auction for Mobility Fund Phase I Support.

Form Number: FCC Form 180.

Type of Review: New collection.

Respondents: Business or other for-profit entities; Not-for-profit institutions; State, Local or Tribal Governments.

Number of Respondents and Responses: 250 respondents; 250 responses.

Estimated Time per Response: 1.5 hours.

Frequency of Response: On occasion reporting requirement.

Obligation To Respond: Required to obtain or retain benefits.

Total Annual Burden: 375 hours.

Annual Cost Burden: None.

Privacy Act Impact Assessment: No impact. Entities submitting an application are acting in an entrepreneurial capacity.

Nature and Extent of Confidentiality: There is no need for confidentiality. The information to be collected will be made available for public inspection. Applicants may request materials or information submitted to the Commission be given confidential treatment under 47 CFR 0.459 of the Commission's rules.

Needs and Uses: The Commission will use the information collected to determine whether applicants are eligible to participate in the Mobility Fund Phase I auction. On November 18, 2011, the Federal Communications Commission released, WC Docket Nos. 10-90, 07-135, 05-337, 03-109; GN Docket No. 09-51; CC Docket Nos. 01-92, 96-45; WT Docket No. 10-208; FCC 11-161, which adopted rules to govern the Connect America Fund Mobility Fund. In adopting the rules, the Commission provided for one-time support to immediately accelerate deployment of networks for mobile broadband services in unserved areas. Mobility Fund Phase I support will be awarded through a nationwide reverse auction. The information collection process for the Mobility Fund Phase 1 auction is similar to that used in spectrum license auctions. This approach provides an appropriate screen to ensure serious participation without being unduly burdensome.

Federal Communications Commission.
Bulah P. Wheeler,
Deputy Manager, Office of the Secretary, Office of Managing Director.

[FR Doc. 2011-32466 Filed 12-19-11; 8:45 am]

BILLING CODE 6712-01-P